DEPARTMENT OF ENERGY

Biological and Environmental Research Advisory Committee

AGENCY: Office of Science, Department of Energy.

ACTION: Notice of renewal.

SUMMARY: Pursuant to the Federal Advisory Committee Act, and in accordance with title 41 of the Code of Federal Regulations, and following consultation with the Committee Management Secretariat, General Services Administration, notice is hereby given that the Biological and Environmental Research Advisory Committee's (BERAC) charter will be renewed for a two-year period.

FOR FURTHER INFORMATION CONTACT: Dr. Tristram West at (301) 903-5155 or email: Tristram.west@science.doe.gov.

SUPPLEMENTARY INFORMATION: The Committee provides advice and recommendations to the Director, Office of Science on the Biological and Environmental Research programs.

Additionally, the renewal of BERAC has been determined to be essential to conduct business of the Department of Energy's (DOE) mission and to be in the public interest in connection with the performance of duties imposed upon the DOE by law and agreement. The Committee will operate in accordance with the provisions of the Federal Advisory Committee Act, and rules and regulations issued in implementation of that Act.

Signing Authority

This document of the Department of Energy was signed on December 8, 2023, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 8, 2023.
Treena V. Garrett,
Federal Register Liaison Officer, U.S. Department of Energy.

[FR Doc. 2023-27315 Filed 12-12-23; 8:45 am]

BILLING CODE 6450-01-P